DEPARTMENT OF JUSTICE

Office of Juvenile Justice and Delinquency Prevention

[OJP (OJJDP)-1269]

Program Announcement for Information Sharing To Prevent Juvenile Delinquency: A Training and Technical Assistance Approach

AGENCY: Office of Justice Programs, Office of Juvenile Justice and Delinquency Prevention, Justice.

ACTION: Notice of solicitation.

SUMMARY: The Office of Juvenile Justice and Delinquency Prevention (OJJDP) is requesting applications to provide training and technical assistance on information sharing to juvenile justice, education, health, child welfare, and other youth-serving systems or organizations that foster multidisciplinary, multiagency solutions to the problems of delinquent and at-risk youth. Instructional focus will include the legal, ethical, technical, and structural knowledge and skills necessary to ensure effective development and management of information-sharing systems within the context of integrated information architectures being developed in the justice, education, and health and human services communities. Training and technical assistance support is expected to facilitate cross-agency cooperation and improve systemic responses to children at risk and juveniles in the juvenile justice system.

DATES: Applications must be received by 5 p.m. ET on July 24, 2000.

ADDRESSES: Interested applicants must obtain an application kit from the Juvenile Justice Clearinghouse at 800-638-8736. The application kit is also available at OJJDP's Web site at www.ojjdp.ncjrs.org/grants/about.html&num;kit. (See “Format” and “Delivery Instructions” later in this announcement for instructions on required standards and the address to which applications must be sent).

FOR FURTHER INFORMATION CONTACT: Gwendolyn Dilworth, Program Manager, Office of Juvenile Justice and Delinquency Prevention, 202-514-4822. [This is not a toll-free number.]

SUPPLEMENTARY INFORMATION:

Purpose

The purpose of this program is to advance more effective and pro-active responses to at-risk and juvenile-justice-system-involved juveniles and to support solutions to juvenile delinquency by providing training and technical assistance on information sharing to juvenile justice, education, health, child welfare, and other youth-serving systems or organizations that foster multidisciplinary, multiagency solutions. Instructional focus will include the legal, ethical, technical, and structural knowledge and skills necessary to ensure effective development and management of juvenile information-sharing systems within the context of integrated information architectures being developed in the justice, education, and health and human services communities.

Background

Information sharing is recognized as an essential tool for effectively providing justice, education, and health services by Federal, State, local, and tribal governments. In the past 5 years, advances in information technology have made electronic multidisciplinary and multiagency information sharing a possibility for large and small jurisdictions alike. Since 1997, the Office of Justice Programs (OJP) and its Bureaus (the Bureau of Justice Assistance, the Bureau of Justice Statistics, the National Institute of Justice, the Office of Juvenile Justice and Delinquency Prevention (OJJDP), and the Office for Victims of Crime) have been supporting the development of integrated justice information sharing systems in State, local, and tribal jurisdictions. This effort, the OJP Integrated Justice Information Initiative, is striving to increase information sharing among justice agencies and between justice agencies and affiliated government agencies, such as education, health, welfare, transportation, and emergency management, through coordinated grant funding, award notice requirements, and training and technical assistance.

Since the early 1990's, public bodies, professional organizations, and business groups have been calling for greater interagency coordination to achieve a more comprehensive approach to providing services for children and families at risk (Soler, Shotton, and Bell, 1993). This call for increased coordination fueled a growing belief that sharing pertinent “need to know” information among service providers strengthens the ability to provide comprehensive services to children and families. Integrated information sharing can also promote effective coordination of multiple services to foster better informed decisionmaking regarding juveniles, whether in the justice, education, or health and welfare contexts.

Implementing integrated information sharing systems, however, is often impeded by barriers identified in juvenile justice and affiliated agencies. The barriers to effective juvenile information sharing are often attributed to concerns of confidentiality and privacy, blurred lines of authority, gaps in data integration, service fragmentation, and distrust and hostility among different agencies. Each of these barriers raises valid issues that must be carefully addressed in designing and implementing information-sharing systems.

To better respond to a heightened concern over violent juvenile crime and delinquency in schools and communities, many justice, education, health, and other youth-serving agencies are seeking to integrate information-sharing capabilities. To assist these agencies in achieving integrated information sharing, OJJDP, the U.S. Department of Education, and the U.S. Department of Health and Human Services are working collaboratively to provide coordinated juvenile information technology resources through a grant for technical assistance and training. Previous collaborative efforts funded by the Federal Government demonstrate the pivotal role of Federal agencies in facilitation a formal information-sharing process between State and local agencies. For example, Federal Government facilitation of information-sharing capabilities is demonstrated through the following initiatives:

• Through Safe Kids/Safe Streets, OJJDP and several other OJP components (Violence Against Women Office, Executive Office of Weed and Seed, Bureau of Justice Assistance, Bureau of Justice Statistics, and Office for Victims of Crime) are supporting the reform of public and community systems that respond to child maltreatment. Cross-agency information sharing is a core component of the project. Five communities are exploring ways to improve communication across the juvenile justice, child welfare, health, and education systems in their jurisdiction to strengthen child abuse and neglect prevention and treatment efforts through multidisciplinary teams and cross-agency management information systems.

• In 1994, the Safe and Drug-Free Schools and Communities Act (SDFS) was reauthorized as part of the Elementary and Secondary Schools Act (ESEA). The most significant change was the authorization of violence prevention activities. This focus on school safety was based on a growing recognition that schools needed to expand the types of prevention and early intervention activities they were developing to ensure safe, healthy, disciplined, and drug-free students. Since many of the issues pertaining to drug and violence prevention are interrelated, the amended SDFS encourages school districts to develop integrated programs that address student “risk factors” such as alcohol and other drug use and violent behavior. In response to this broadened programmatic authority, school districts have expanded the scope of their efforts by promoting various aspects of safety including drug prevention, violence prevention, hate crime prevention, counseling, mentoring programs, afterschool activities, truancy programs, conflict resolution, antibullying programs, gang prevention, family and community involvement, school security personnel, and installation of metal detectors.

• OJJDP's School Administrators for Effective Police, Prosecution, Probation Operations Leading to Improved Children and Youth Services (SAFE POLICY) Program stresses improved use of information by developing interagency agreements that call for information sharing and coordination of juvenile services. An intensive session for local executives of public and private agencies emphasizes information sharing as a method for improving the juvenile justice system.

• In the wake of tragic multiple shootings in Arkansas, Colorado, Kentucky, Mississippi, and Oregon, last fall President Clinton convened the first-ever White House Conference on School Safety to exchange knowledge and ideas on ways to improve safety for students, schools, and communities. On April 1, 1999, the U.S. Departments of Education, Health and Human Services, and Justice announced an unprecedented collaborative effort, the Safe Schools/Healthy Students Initiative, to promote healthy childhood development and prevent violent behaviors. The intent of the initiative is to provide fully linked educational, mental health, law enforcement, juvenile justice, and social services.

As these examples illustrate, youth-serving agencies and organizations are creating mechanisms for improving service delivery to children, their families, and their caregivers while raising awareness for broader “need to know” information access and sharing capability across disciplinary and organizational sectors. Central to this theme is determining a process for planning, designing, and implementing integrated juvenile justice information-sharing systems within the legal, policy, and technology frameworks of the overall justice, education, and health communities. Developing this capability is essential to ensuring a seamless continuum of services for juveniles and their families, while minimizing gaps or service duplication.

To develop this capability, practitioners require sufficient knowledge and skills to plan for, implement, and maintain multiagency, multijurisdictional information management systems. These skills include the ability to build partnerships between a variety of government agencies and service providers, comprehend and implement Federal, State, local, or tribal statutes and policies relating to juvenile information sharing, and understand integrated technology architecture design.

Protecting children, providing needed health and mental health care, preventing delinquency, maintaining safe schools and communities, and ensuring accountability for juvenile offenders require effective information-sharing mechanisms across the spectrum of agencies responsible for influencing these outcomes. OJJDP and its Federal partners are uniquely positioned to assist in the coordination, development, and management of multidisciplinary, multiagency information-sharing systems through the design and delivery of select instructional training and technical assistance strategies. For these reasons, OJJDP, the U.S. Department of Education, and the U.S. Department of Health and Human Services have embarked on this collaborative project.

Goal

To increase the capacity of State and local collaboratives to establish and manage effective multidisciplinary, multiagency information-sharing systems for the purpose of improving coordination, decisionmaking, and services to children at risk and their families.

Objectives

• Promote and support coordination among partnering agencies and organizations such as juvenile courts, probation, attorneys, and juvenile detention and corrections; education; health, mental health, and social services; law enforcement; child protective services; youth advocacy and service agencies; the field of management systems; and faith-based institutions interested in starting or enhancing an information-sharing system.

• Develop and administer needs assessment instruments to determine skill, knowledge, and information deficiencies for each level of training to be conducted.

• Design an appropriate two-prong instructional approach based on findings from the assessments: Level one for jurisdictions interested in creating a multidisciplinary information-sharing system and Level two for jurisdictions interested in advancing existing systems.

• Design assessment tools to assist training team members in determining the following:

• Information needs of collaborating agencies and organizations.

• Feasibility of establishing a multidisciplinary information-sharing system.

• Purpose of the project.

• Level of information to be shared.

• Partners to be involved in the sharing.

• Juvenile population to be the focus of information sharing.

• Methods for securing information that comply with confidentiality mandates.

• Examine and develop solutions to the legal, ethical, technical, structural, and political challenges to sharing information, with special emphasis on medical/mental health information.

• Explore the role of formal agreements and protocols in fostering integrated information-sharing structures.

• Promote integrated information sharing among agencies and organizations to reduce the duplication of services provided by multiple systems and enhance the continuum of services for juveniles and their families.

• Design and conduct a series of 1- to 2-day trainings and followup assistance tailored to meet the specific needs of training participants.

• Construct training modules that can be adapted for use in other related training programs supported by the Federal partners, as appropriate.

• Provide uniform protocols for requesting training and technical assistance services.

Program Strategy

OJJDP proposes to award a cooperative agreement of up to $500,000 for a 2-year period to improve responses to at-risk juveniles and child/adolescent victims through administering centralized, national-scope training and technical assistance. (Additional funding may be available in year 2). This training and technical assistance will focus on the legal, ethical, technical, and operational methodologies for advancing multidisciplinary, multiagency information-sharing efforts, while protecting individual rights. Regional trainings and technical assistance will explore methodologies that promote integrated information-sharing systems, while adhering to confidentiality and privacy law and policy.

The Information Sharing Training/Technical Assistance (IS) grantee is expected to optimize training/technical assistance delivery by linking programmatic objectives and training coordination efforts with the instructional needs of participants. The grantee is expected to manage a two-prong team training approach, based on an assessment of needs, that will focus on (1) teams with marginal knowledge of how to design and implement integrated multidisciplinary, multiagency information-sharing systems, and (2) teams with experience in formal IS networks that are seeking ways to improve the efficacy and accuracy of their efforts. The grantee is expected to present a strategic design that incorporates these elements, fosters innovation, and clearly delineates the work to be accomplished during the project. The approach should also identify those areas of programmatic expertise that will be required to deliver training/technical assistance support and the process for recruiting and managing consultants who will provide this expertise.

Requisites for the IS grantee are a demonstrated ability to develop, staff, and manage a national-scope training/technical assistance effort with multiple dimensions within a short time frame; a capability to produce a range of general and tailored resource materials, curriculums, tools, and onsite interventions; and the ability to identify, recruit, utilize, and oversee a diverse consultant pool of content experts and trainers. These consultants should have expertise in areas such as the following:

• Federal and State statutes, policies, and provisions related to sharing information on juveniles, e.g., the Family Educational Rights and Privacy Act (1974), Youth Corrections Act (1977), Alcohol Abuse and Alcoholism Prevention, Treatment and Rehabilitation Act (1970), Drug Abuse and Treatment Act (1972), mental health confidentiality requirements, Computer Matching and Privacy Protection Act (1988), Child Abuse Prevention and Treatment and Adoption Reform Act (1977), and the Freedom of Information Act (1966).

• Conditions under which various government agencies and youth-serving organizations are legally allowed to share information and the legal barriers that prohibit the sharing of information.

• Exceptions to statutory requirements.

• Confidentiality and privacy issues.

• Multidisciplinary, multiagency information-sharing system development policy.

• Assessment and strategic planning.

• Team building.

• Problem solving.

• Technology-based solutions for serving children and families at risk.

• Development, maintenance, and cost-effective upgrades for information systems.

• Database management systems.

• Creation, implementation, and monitoring of formal information-sharing agreements/protocols.

Scope of Work

The following delineates the work to be conducted under a cooperative agreement for purposes of designing and managing the IS project.

The grantee is responsible for developing a workplan, based on the elements set forth below, that describes how the training/technical assistance project will be structured to implement the IS project. It is anticipated that the IS project will commence on or about September 15, 2000.

Task One

Assess training needs to determine the specific skills, knowledge, information, and experiential levels of potential training/technical assistance recipients. Analysis of assessment data will inform the content, approach, and level of instructional delivery. Develop training curriculums and supporting materials.

Task Two

Develop a marketing plan and schedule/timeline for the design and delivery of 12 to 15 regional trainings and onsite technical assistance support.

Task Three

Use the training and technical assistance protocols established by the Training and Technical Assistance Division of OJJDP to tailor the provision of training and technical assistance to adult learners. This will include providing a common set of protocols to assist trainees in conducting an information-sharing needs assessment in their community/jurisdiction, developing technical assistance plans, establishing evaluation tools to assess the relevancy and learning transferability of the lessons provided, and developing a common structure for reporting the purpose and effectiveness of onsite technical assistance.

Task Four

Develop and implement a procedure for delivering and reporting on assistance delivered by consultants.

Task Five

Determine appropriate procedures to facilitate and expedite utilization of the consultant exchange database and other infrastructure elements to support the provision of training and technical assistance.

Task Six

Develop a protocol for recording and reporting to OJJDP and its Federal partners major milestones of the project for the purpose of maintaining a current and focused training and technical assistance plan.

Task Seven

Manage onsite and off-site technical assistance.

Task Eight

Promote public awareness of training and technical assistance support for developing integrated juvenile information-sharing systems within the context of the OJP Integrated Justice Initiative and other initiatives under way at the Department of Education and the Department of Health and Human Services.

Deliverables

In addition to elements identified in the strategy section of this document, the following describes additional deliverables required over the 24-month project period.

• A system that uses uniform protocols to assist trainees in assessing their information requirements, resources, potential partners, and liabilities.

• A consultant pool of trainers with diverse expertise on subject matters such as those listed previously in the “Program Strategy” section. The U.S. Department of Education's Family Compliance Office will direct the design and delivery of sessions that focus specifically on the Family Educational Rights and Privacy Act of 1974. In other areas, peer mentoring (jurisdictions that have had some success in implementing multidisciplinary team IS systems) is encouraged.

• A minimum of 6-8 multidisciplinary, cross-sectoral team (3-4 persons) training workshops for designated representatives from State and local collaboratives that plan to initiate IS efforts and a minimum of 6-8 advanced workshops for IS collaboratives planning to enhance efforts currently under way. These regional team trainings will address the skills and knowledge deficiencies based on adult learning principles.

• A regularly updated training schedule that offers a range of site-specific training activities or events that will be announced throughout the country.

• A reporting system that provides summaries to the OJJDP Training and Technical Assistance Division (TTAD) program manager and Federal partners as part of each training and technical assistance activity through the project period.

• Curriculums that use a modular approach and are based on adult learning principles. One curriculum will focus on the provision of knowledge, skills, and information for collaboratives interested in initiating an IS effort. A second curriculum will focus on learners who are seeking ways to advance their information-sharing efforts already under way. Learners must be active in the process if learning is to be effective. Practice units that include scenarios, case studies, simulations, role-plays, and/or discussion forums will facilitate the application of the lessons in trainees' community/jurisdiction.

• A camera-ready monograph that outlines and reviews promising practices in multidisciplinary, multiagency information-sharing policy development.

• Participant and trainer manuals for each training and technical assistance intervention and resource packets or other training aids, as appropriate.

• A task plan that recommends either an onsite or specialized technical assistance response.

• Semiannual accomplishment reports, describing major activities, milestones, schedules, areas of training and technical assistance provided and/or anticipated, constraints, program modifications, and lessons learned from the project and implications for the further advancement of program activities as required by OJJDP. These reports will be used to provide information about program progress and accomplishments to OJJDP and its Federal partners.

• Uniform protocols for assessing problems to be addressed through technical assistance and for evaluating the utility of the services provided.

• Marketing strategies to ensure national awareness and proper use of information-sharing resource materials Modifications may be proposed regarding the deliverables as assessments reveal new or different areas of skill deficiencies or if any are determined not to meet the objectives previously outlined as effectively and efficiently as an alternative approach would. Sufficient explanation should be provided to permit assessment of the merits of the proposed change. The project budget must realistically reflect costs associated with conducting the IS project.

Eligibility Requirements

OJJDP invites applications from public and private agencies, organizations, institutions, or individuals. Private, for-profit organizations must agree to waive any profit or fee. Applicants must have strong, demonstrated experience in designing and administering national-scope training and technical assistance in areas that include legal, ethical, technical, and operational methodologies for advancing multidisciplinary, multiagency systems of information sharing.

Selection Criteria

Applications will be rated by a peer review panel according to the criteria outlined below. A site visit may be conducted to confirm information provided in the application.

Problems(s) To Be Addressed (10 points)

The applicant conveys a clear understanding of the purpose, work requirements, juvenile information-sharing efforts under way, and related issues addressed in this program announcement. In particular, the applicant presents a clear conceptualization of a training and technical assistance (TTA) approach that facilitates jurisdictional systems integration improvement, regional trainings, and product development. The applicant must, therefore, further demonstrate knowledge of both the leading systems-change and information integration methodologies and the problems they are designed to address and must convey an understanding of the expected results of these efforts and of possible barriers to their achievement.

Goals and Objectives (10 points)

The goals and objectives for the project are clearly defined, measurable, and related directly to achieving this grant's stated goals.

Project Design (25 points)

Applications must include a project design, indicating a workplan with specific tasks and procedures to be completed, projected performance schedules, expected accomplishments, and products. The performance schedule should include a chart that specifies each milestone, related tasks, lead staff responsible, and a time line with interim benchmark dates and dates for task completion. The design should correspond with the project's goals and objectives, the conceptualization of need, and product achievement identified in this program announcement. Project design elements should directly link to the achievement of specific objectives and must include protocols for assessment of technical assistance training needs, as well as the protocols that will be used in the actual delivery of technical assistance. It must also describe the process and structure that will be used for curriculum development with demonstration of how adult learning theory will be employed in its design. The project design should use information protocols for needs assessment, delivery of training and technical assistance, evaluation, tracking, and follow-up and should provide for curriculum development based on adult learning theory and delivery of the curriculum within the context of an interactive structure. Obstacles for achieving expected results should be identified with alternative plans and rationales included.

OJJDP and its Federal partners will consider recommendations for modification and enhancement of the products to be delivered to accommodate cost considerations. Where such recommendations are made, justification and alternatives should be proposed. The competitiveness of applications will be enhanced when such modifications and/or enhancements reflect the concept and are sound and innovative.

Management and Organizational Capability

Project Management (25 points)

The project's management structure and staffing are appropriate for the successful implementation and management of the grant. Areas to be considered include reasonableness of the staffing plan. Additionally, the applicant is expected to identify, recruit, and oversee a diverse consultant pool of content experts and trainers with expertise in areas such as statutes, policies, and provisions related to sharing information on juveniles; conditions under which partners are legally allowed to share information and the legal barriers that prohibit the sharing of information; exceptions to statutory requirements; confidentiality issues; multidisciplinary, multiagency information-sharing systems development policy; assessment and strategic planning; team building; problem-solving; integrated technological systems; protection of confidential information; and creation, implementation, and monitoring of formal information-sharing agreements/protocols. In addition to expertise in systems improvement, key project staff must also demonstrate at least 5 years of experience in program management, training design and delivery, technical assistance and consultation, and production development. Résumés of known staff must be included in the appendix. For proposed staff, the applicant must include résumés and letters of commitment in the appendix. For positions that are not designated for identified staff, job descriptions and staff qualifications must be included.

Organizational Capability (20 points)

Organizational ability to administer the project successfully should be demonstrated in the application. The documentation should include organizational experience in the subject areas described under the program strategy and with projects of the type and scope described.

Applicants must also describe and demonstrate an organizational infrastructure that would support the technological and resource requirements of this project. Applicants may find it more cost effective to establish contractual relationships for technical or specialized functions required under the grant.

Budget (10 points)

Applicants must provide a proposed budget and budget narrative that are complete, detailed, reasonable, allowable, and cost effective in relation to the activities to be undertaken. For budget purposes, applicants should plan to conduct at least four technical assistance interventions.

Format

The narrative must not exceed 35 pages in length (excluding forms, assurances, and appendixes) and must be submitted on 8½- by 11-inch paper, double spaced on one side of the paper in a standard 12-point font. This is necessary to maintain fair and uniform standards among all applicants. If the narrative does not conform to these standards, OJJDP will deem the application ineligible for consideration.

Award Period

This project will be funded for a 2-year budget and project period.

Award Amount

Up to $500,000 is available for this 2-year budget and project period.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail request to puborder@ncjrs.org. The Application Kit is also available online at www.ojjdp.ncjrs.org./grants/about.html#kit.

Coordination of Federal Efforts

To encourage better coordination among Federal agencies in addressing State and local needs, the U.S. Department of Justice (DOJ) is requesting applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

“Related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages must be mailed or delivered to the Office of Juvenile Justice and Delinquency Prevention, c/o Juvenile Justice Resource Center, 2277 Research Boulevard, Mail Stop 2K, Rockville, MD 20850; 301-519-5535. Faxed or e-mailed applications will not be accepted. Note: In the lower left-hand corner of the envelope, you must clearly write “Information Sharing To Prevent Juvenile Delinquency: A Training and Technical Assistance Approach.”

Due Date

Applicants are responsible for ensuring that the original and five copies of the application package are received by 5 p.m. ET on July 24, 2000.

Contact

For further information, contact Gwendolyn Dilworth, Program Manager, Training and Technical Assistance Division, 202-514-4822, or send an e-mail inquiry to dilwortg@ojp.usdoj.gov.

References

Caliber Associates. 1999. 1998 Report to Congress: Title V Incentive Grants for Local Delinquency Prevention Programs. Washington, DC: U.S. Department of Justice, Office of Justice Programs, Office of Juvenile Justice and Delinquency Prevention.

Dobbin, S., and Gatowski, S. 1998. Information Management: A Critical Component of Good Practice in Child Abuse and Neglect Cases. Reno, NV: National Council of Juvenile and Family Court Judges.

Medaris, M.L., Campbell, E., and James, B. 1997. Sharing Information: A Guide to the Family Educational Rights and Privacy Act and Participation in Juvenile Justice Programs. Washington, DC: U.S. Department of Justice, Office of Justice Programs, Office of Juvenile Justice and Delinquency Prevention.

Oldenettel, D., and Wordes, M. 1999. Community Assessment Centers. Washington, DC: U.S. Department, of Justice, Office of Justice Programs, Office of Juvenile Justice and Delinquency Prevention.

SEARCH, The National Consortium for Justice Information and Statistics. 1996. System Integration: Issues Surrounding Integration of County-level Justice Information Systems. Washington, DC: U.S. Department of Justice, Office of Justice Programs, Bureau of Justice Assistance.

Slayton, J. 1999. Establishing and Maintaining Interagency Information Sharing. Bulletin. Washington, DC: U.S. Department, of Justice, Office of Justice Programs, Office of Juvenile Justice and Delinquency Prevention.

Dated: June 20, 2000.
John J. Wilson,
Acting Administrator, Office of Juvenile Justice and Delinquency Prevention.

[FR Doc. 00-15926 Filed 6-22-00; 8:45 am]

BILLING CODE 4410-18-P